NUCLEAR REGULATORY COMMISSION

[NRC-2018-0155]

Instructions for Completing NRC's Uniform Low-Level Radioactive Waste Manifest

AGENCY: Nuclear Regulatory Commission.

ACTION: NUREG; issuance.

SUMMARY: The U.S. Nuclear Regulatory Commission (NRC) has issued NUREG/BR-0204, Revision 3, “Instructions for Completing NRC's Uniform Low-Level Radioactive Waste Manifest.” This document provides instructions to prepare NRC Form 540 (Uniform Low-Level Radioactive Waste Manifest (Shipping Paper)), NRC Form 541 (Uniform Low-Level Radioactive Waste Manifest (Container and Waste Description)), and NRC Form 542 (Uniform Low-Level Radioactive Waste Manifest (Manifest Index and Regional Compact Tabulation)), which have also been revised.

DATES: NUREG/BR-0204, Revision 3 and its forms became effective on July 2, 2020. Use of the NUREG/BR-0204, Revision 2 forms should be discontinued on or before September 30, 2020.

ADDRESSES: Please refer to Docket ID NRC-2018-0155 when contacting the NRC about the availability of information regarding this document. You may obtain publicly-available information related to this document using any of the following methods:

• Federal Rulemaking Web site: Go to https://www.regulations.gov and search for Docket ID NRC-2018-0155. Address questions about NRC dockets IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's Form Library: NRC Forms 540, 541, and 542 can be accessed on the NRC Form Library at https://www.nrc.gov/reading-rm/doc-collections/forms/.

FOR FURTHER INFORMATION CONTACT: Robert Gladney, telephone: 301-415-1022, email: Robert.Gladney@nrc.gov and Karen Pinkston, telephone: 301-415-3650, email: Karen.Pinkston@nrc.gov. Both are staff of the Office of Nuclear Material Safety and Safeguards at the U.S. Nuclear Regulatory Commission, Washington, DC 20555-0001.

SUPPLEMENTARY INFORMATION:

I. Discussion

NUREG/BR-0204, Rev. 3, “Instructions for Completing the NRC's Uniform Low-Level Radioactive Waste Manifest,” provides guidance on completing NRC Forms 540, 541, and 542 (i.e., the NRC's Uniform Low-Level Waste Manifest). The NRC has revised NUREG/BR-0204 and NRC Forms 540, 541, and 542 to address stakeholder feedback since the publication of Revision 2 of the NUREG/BR (ADAMS Accession No. ML071870172). A request for comments on Draft NUREG/BR-0204, Rev. 3 (ADAMS Accession No. ML18261A002) and its forms was published in the Federal Register on October 30, 2018 (83 FR 54620), with a 60-day comment period ending on December 31, 2018. An extension of the comment period until January 31, 2019, was subsequently published on December 21, 2018 (83 FR 65759). Comments received on NUREG/BR-0204, Rev. 3 and the forms can be found on the Federal Rulemaking website (https://www.regulations.gov) under Docket ID NRC-2018-0155. The final NUREG/BR-0204, Rev. 3 and the NRC's comment resolutions are available in ADAMS under Accession Nos. ML20178A433 and ML19214A186, respectively.

II. Congressional Review Act

This document is a rule as defined in the Congressional Review Act (5 U.S.C. 801-808). However, the Office of Management and Budget has not found it to be a major rule as defined in the Congressional Review Act. The revision to the guidance is available in ADAMS under Accession No. ML20178A433 and is available for immediate use by all stakeholders.

Dated: June 29, 2020.
For the Nuclear Regulatory Commission.
Patricia K. Holahan,
Director, Division of Decommissioning, Uranium Recovery, and Waste Programs, Office of Nuclear Material Safety and Safeguards.

[FR Doc. 2020-14265 Filed 7-1-20; 8:45 am]

BILLING CODE 7590-01-P